DEPARTMENT OF HOMELAND SECURITY

Coast Guard

[USCG-2005-22499]

Integrated Anti-Swimmer System; Draft Programmatic Environmental Assessment

AGENCY: Coast Guard, DHS.

ACTION: Notice of availability and request for comments.

SUMMARY: The Coast Guard announces the availability of the Draft Programmatic Environmental Assessment (PEA) of the Integrated Anti-Swimmer System (IAS). The Coast Guard is proposing to deploy and operate the IAS for temporary periods at various U.S. ports throughout the U.S. Maritime Domain, when necessary. The purpose of the Proposed Action is to increase the Coast Guard's ability to detect, track, classify, and interdict, if necessary, potential underwater threats and as a result, protect personnel, ships, and property from sabotage and/or other subversive acts. Potential threats targeted by the IAS include combat divers and unmanned vehicles. The IAS will be co-located with, and used by, the Coast Guard's newly established Maritime Safety and Security Teams (MSSTs). The IAS is proposed to be used at a range necessary to maintain situational awareness and allow the MSSTs sufficient time to react and counter a detected threat. Extensive research and analysis of alternatives has led to the conclusion that an active sonar system is the only currently available technology that affords this capability.

DATES: Comments and related material must reach the Docket Management Facility on or before November 17, 2005.

ADDRESSES: To make sure that your comments and related material are not entered more than once in the docket, please submit them by only one of the following means:

(1) Electronically through the Web Site for the Docket Management System at http://dms.dot.gov.

(2) By mail to the Docket Management Facility, (USCG-2005-22499), U.S. Department of Transportation, room PL-401, 400 Seventh Street SW., Washington, DC 20590-0001.

(3) By fax to the Docket Management Facility at 202-493-2251.

(4) By delivery to room PL-401 on the Plaza level of the Nassif Building, 400 Seventh Street SW., Washington, DC, between 9 a.m. and 5 p.m., Monday through Friday, except Federal holidays. The telephone number is 202-366-9329.

The Docket Management Facility maintains the public docket for this notice. Comments and material received from the public, as well as the draft Programmatic Environmental Assessment (PEA), will become part of this docket and will be available for inspection or copying at room PL-401 on the Plaza level of the Nassif Building, 400 Seventh Street SW., Washington, DC, between 9 a.m. and 5 p.m., Monday through Friday, except Federal holidays. You may also find this docket, including the PEA, on the Internet at http://dms.dot.gov.

FOR FURTHER INFORMATION CONTACT: If you have questions on this notice, the proposed project, or the associated PEA, call Mr. Kenneth McDaniel at (202) 267-1505 or by e-mail at kmcdaniel@comdt.uscg.mil. If you have questions on viewing or submitting material to the docket, call Andrea M. Jenkins, Program Manager, Docket Operations, telephone 202-366-0271.

SUPPLEMENTARY INFORMATION:

Request for Comments

We encourage you to submit comments and related material on the draft Programmatic Environmental Assessment (PEA). If you do so, please include your name and address, identify the docket number for this notice (USCG-2005-22499) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

Domestic port safety and security has long been a core Coast Guard mission. However, in the wake of the terrorist attacks committed on September 11, 2001, emerging threats to the U.S. homeland have prompted an increased Coast Guard focus on protecting domestic ports and the U.S. Maritime Transportation System from terrorist threats.

As part of the U.S. response to these threats, the Coast Guard has undertaken a PEA to examine alternatives and assess the significance of the impacts on the quality of the human environment for the decision to deploy and operate IASs at various U.S. ports throughout the U.S. Maritime Domain, when necessary.

Draft Programmatic Environmental Assessment

We have prepared a draft Programmatic Environmental Assessment (PEA). The draft PEA identifies and examines the reasonable alternatives and assesses their potential environmental impact.

Our preferred alternative is to use the IAS to protect personnel, ships, and property from sabotage or other subversive acts. The IAS consists of five primary components: A land-based sonar, a portable (vessel mounted) sonar, a data processor, a vehicle guidance system, and an underwater loud hailer. Use of the IAS would be limited to existing harbor infrastructure and adjacent waters. The IAS is not designed or intended for use offshore.

The system would be used for specific and finite periods of time to protect specific assets. During these times, the sonar would be operated and monitored continuously. The loud hailer would be used only if an actual threat was identified.

Recently, the Coast Guard completed environmental assessments (EAs) that address the impact of IAS deployment and operation in Galveston Bay, TX and San Pedro Bay, CA. The result of these EAs was a finding of no significant impact. The Coast Guard also engaged in informal consultation with the National Marine Fisheries Service pursuant to the section 7 of the Endangered Species Act, which resulted in a determination that deployment and operation of the IAS in Galveston Bay, TX and San Pedro Bay, CA is not likely to adversely affect threatened or endangered species or critical habitat, nor is it likely to result in the take of marine mammals in those bays. Similarly, there was no evidence to suggest that IAS deployment and operation would adversely affect essential fish habitat or have an impact on coastal uses and resources.

We are requesting your comments on environmental concerns you may have related to the PEA. This includes suggesting analyses and methodologies for use in the PEA or possible sources of data or information not included in the PEA. Your comments will be considered in preparing the final PEA.

Dated: September 23, 2005.
Kevin G. Quigley,
Captain, U.S. Coast Guard, Chief, Office of Defense Operations.

[FR Doc. 05-19662 Filed 9-30-05; 8:45 am]

BILLING CODE 4910-15-U